FEDERAL COMMUNICATIONS COMMISSION

47 CFR Part 73

[DA 00-1261; MM Docket No. 99-287; RM-9712]

Radio Broadcasting Services; Sulphur Bluff, TX

AGENCY: Federal Communications Commission.

ACTION: Final rule.

SUMMARY: This document allots Channel 259A to Sulphur Bluff, Texas, in response to a petition filed by Sulphur Bluff Radio Broadcasting . See 64 FR 52487, September 29, 1999. The coordinates for Channel 259A at Sulphur Bluff are 33-23-03 NL and 95-22-59 WL. There is a site restriction 2.7 kilometers (1.7 miles) northeast of the community. With this action, this proceeding is terminated. A filing window for Channel 259A at Sulphur Bluff will not be opened at this time. Instead, the issue of opening a filing window for this channel will be addressed by the Commission in a subsequent order.

DATES: Effective July 24, 2000.

FOR FURTHER INFORMATION CONTACT: Kathleen Scheuerle, Mass Media Bureau, (202) 418-2180

SUPPLEMENTARY INFORMATION: This is a summary of the Commission's Report and Order, MM Docket No. 99-287, adopted May 31, 2000, and released June 9, 2000. The full text of this Commission decision is available for inspection and copying during normal business hours in the Commission's Reference Center, 445 12th Street, SW, Washington, DC. The complete text of this decision may also be purchased from the Commission's copy contractors, International Transcription Services, Inc., 1231 20th Street, NW., Washington, DC 20036, (202) 857-3800, facsimile (202) 857-3805.

List of Subjects in 47 CFR Part 73

Radio broadcasting.

Part 73 of title 47 of the Code of Federal Regulations is amended as follows:

PART 73—[AMENDED]

1. The authority citation for part 73 continues to read as follows:

Authority: 47 U.S.C. 154, 303, 334 and 336.

§ 73.202 [Amended]

2. Section 73.202(b), the Table of FM Allotments under Texas, is amended by adding Sulphur Bluff, Channel 259A.

Federal Communications Commission.
John A. Karousos,
Chief, Allocations Branch, Policy and Rules Division, Mass Media Bureau.

[FR Doc. 00-16681 Filed 6-30-00; 8:45 am]

BILLING CODE 6712-01-P